FEDERAL COMMUNICATIONS COMMISSION

[OMB 3060-1200]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before July 7, 2015. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

OMB Control Number: 3060-1200.

Title: Rural Broadband Experiments and Post-Selection Review of Rural Broadband Experiment Winning Bidders.

Form Number: FCC Form 5620.

Type of Review: Revision of a currently approved collection.

Respondents: Business or other for-profit, and not-for-profit institutions.

Number of Respondents: 47 respondents; 135 responses.

Estimated Time per Response: 2 to 20 hours.

Frequency of Response: One-time and occasional reporting requirements; annual recordkeeping requirements.

Obligation to Respond: Required to obtain or retain benefits. Statutory authority for this information collection is contained in 47 U.S.C. 151-154 and 254.

Total Annual Burden: 1,834 hours.

Total Annual Cost: No cost(s).

Privacy Act Impact Assessment: No impact(s).

Nature and Extent of Confidentiality: Information collected in FCC Form 5620 will be confidential. Information reported in the November interim progress report and the build-out milestone certifications will be made publicly available.

Needs and Uses: On January 31, 2014, the Commission released the Tech Transitions et al., GN Docket No. 13-5 et al., 29 FCC Rcd 1433 (2014) (Tech Transitions Order), that adopted targeted experiments to explore the impact of technology transitions on rural Americans, including those living on Tribal lands. On July 14, 2014, the Commission released Connect America Fund et al., WC Docket No. 10-90 et al., Report and Order and Further Notice of Proposed Rulemaking, FCC 14-98 (rel. July 14, 2014) (Rural Broadband Experiments Order), which established certain parameters and requirements for the rural broadband experiments adopted by the Commission in the Tech Transitions Order.

This information collection addresses requirements to carry out the rural broadband experiments the Commission adopted in the Tech Transitions Order and the Rural Broadband Experiments Order. The Commission has received OMB approval for most of the information collections required by the orders. At a later date, the Commission plans to submit additional revisions to a separate information collection for OMB's review to address other reporting requirements adopted in the Rural Broadband Experiments Order. For this revision, subject to OMB approval, the Commission proposes to incorporate the November interim progress report, build-out milestone certifications, and recordkeeping requirements that the Commission adopted in the Rural Broadband Experiments Order. If approved, recipients of the rural broadband experiments will be required to submit a one-time report on November 1st after they begin receiving support. This report must describe the status of the recipient's experiment as of September 30th immediately preceding the report (i.e., whether vendors have been hired, permits have been obtained, and construction has begun), and include evidence demonstrating which locations if any the recipient has built out to in its project areas and evidence demonstrating that the recipient is meeting the public service obligations for the relevant experiment category, including a certification that demonstrates the service the recipient offers complies with the Commission's latency requirements. Rural broadband experiment recipients will also be required to certify that they have met the build-out milestones adopted in the Rural Broadband Experiments Order. These certifications will be due for all recipients by the end of the third year and fifth year of support. Recipients that have chosen to receive 30 percent of their support upfront will also be required to submit a build-out milestone certification within 15 months of their first disbursement. Recipients that are determined to not be in compliance with the terms and conditions of the rural broadband experiments during their support term will also be required to submit a certification to demonstrate that they have come into compliance. All of these certifications must be accompanied by the same types of evidence required for the November interim progress report. This report and certifications will enable the Commission to monitor the progress of the rural broadband experiments and ensure that the support is being used for its intended purposes. Finally, rural broadband experiment recipients will be subject to a 10-year record retention requirement and must make those documents and records available to the Commission, any of its Bureaus or Offices, the Universal Service Administrative Company, and their respective auditors to aid these entities in overseeing the recipients' compliance with the terms and conditions of rural broadband experiment support. The Commission also proposes to eliminate FCC Form 5610 that is a part of this information collection. The deadline to file FCC Form 5610 with the Commission was November 7, 2014. Because the Commission does not anticipate holding another round of bidding, no additional entities will be required to file FCC Form 5610. There are no proposed changes to the currently approved FCC Form 5620 which is also a part of this information collection. However, the Commission proposes to increase the number of respondents involved in the post-selection review because more winning bidders were provisionally selected than the Commission anticipated.

Federal Communications Commission.
Marlene H. Dortch,
Secretary, Office of the Secretary, Office of the Managing Director.

[FR Doc. 2015-11091 Filed 5-7-15; 8:45 am]

BILLING CODE 6712-01-P